DEPARTMENT OF THE TREASURY

Submission for OMB Review; Comment Request

December 1, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 8, 2007 to be assured of consideration.

Internal Revenue Service (IRS)

OMB Number: 1545-1550.

Type of Review: Extension.

Title: Notice 97-45, Highly Compensated Employee Definition.

Description: This notice provides guidance on the definition of a highly compensated employee within the meaning of section 414(q) of the Internal Revenue Code as simplified by section 1431 of the Small Business Job Protection Act of 1996, including an employer's option to make a top-paid group election under section 414(q)(1)(B)(ii).

Respondents: Businesses and other for-profit institutions.

Estimated Total Burden Hours: 65,605 hours.

OMB Number: 1545-1849.

Type of Review: Extension.

Title: Employer/Payer Information.

Form: 13460.

Description: Form 13460 is used to assist filer's who have under-reporter or correction issues. Also, this form expedites research of filer's problems.

Respondents: Businesses and other for-profit institutions.

Estimated Total Burden Hours: 50 hours.

OMB Number: 1545-0002.

Title: Employee Representative's Quarterly Railroad Tax Return.

Type of Review: Extension.

Form: CT-2.

Description: Employee representatives file Form CT-2 quarterly to report compensation on which railroad retirement taxes are due. IRS uses this information to ensure that employee representatives have paid the correct tax. Form CT-2 also transmits the tax payment.

Respondents: Individuals or households.

Estimated Total Burden Hours: 127 hours

OMB Number: 1545-1858.

Title: Notice 2003-67, Notice on Information Reporting for Payments in Lieu of Dividends.

Type of Review: Extension.

Description: This notice provides guidance to brokers and individuals regarding provisions in the Jobs and Growth Tax Relief Reconciliation Act of 2003. The notice provides rules for brokers to use in determining loanable shares and rules for allocating transferred shares for purposes of determining payments in lieu of dividend reportable to individuals. These rules require brokers to comply with certain recordkeeping requirements to use the favorable rules for determining loanable shares and for allocating transferred shares that may give rise to payments in lieu of dividends.

Respondents: Businesses and other for-profit institutions.

Estimated Total Burden Hours: 60,000 hours.

OMB Number: 1545-0135.

Title: Extension of Time for Payment of Taxes by a Corporation Expecting a Net Operating Loss Carryback.

Form: 1138.

Type of Review: Extension.

Description: Form 1138 is filed by corporations to request an extension of time to pay their income taxes, including estimated taxes. Corporations may only file for an extension when they expect a net operating loss carryback in the tax year and want to delay the payment of taxes from a prior tax year.

Respondents: Businesses and other for-profit institutions.

Estimated Total Burden Hours: 9,800 hours.

OMB Number: 1545-1573.

Title: REG-130477-00; REG-130481-00 (Final), Required Distributions from Retirement Plans.

Type of Review: Extension.

Description: The regulation permits a taxpayer to name a trust as the beneficiary of the employee's benefit under a retirement plan and use the life expectancies of the beneficiaries of the trust to determine the required minimum distribution, if certain conditions are satisfied.

Respondents: Individuals or households.

Estimated Total Burden Hours: 333 hours.

OMB Number: 1545-1694.

Title: Revenue Ruling 2000-35 Automatic Enrollment in Section 403(b) Plans.

Type of Review: Extension.

Description: Revenue Ruling 2000-35 describes certain criteria that must be met before an employee's compensation can be reduced and contributed to an employer's section 403(b) plan in the absence of an affirmative election by the employee.

Respondents: State, local or tribal governments.

Estimated Total Burden Hours: 175 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-20769 Filed 12-6-06; 8:45 am]

BILLING CODE 4830-01-P